DEPARTMENT OF TRANSPORTATION

Federal Aviation Administration

14 CFR Part 97

[Docket No. 30776; Amdt. No. 3420]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 15, 2011. The compliance date for each SIAP, associated Takeoff Minimums, and ODP is specified in the amendatory provisions.

The incorporation by reference of certain publications listed in the regulations is approved by the Director of the Federal Register as of April 15, 2011.

ADDRESSES: Availability of matters incorporated by reference in the amendment is as follows:

For Examination

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 1, 2011.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 5 MAY 2011

Deadhorse, AK, Deadhorse, RNAV (RNP) Z RWY 5, Orig

Deadhorse, AK, Deadhorse, RNAV (RNP) Z RWY 23, Orig

Fairhope, AL, H L Sonny Callahan, RNAV (GPS) RWY 1, Amdt 2

Fairhope, AL, H L Sonny Callahan, RNAV (GPS) RWY 19, Amdt 2

Fairhope, AL, H L Sonny Callahan, Takeoff Minimums and Obstacle DP, Amdt 1

Fairhope, AL, H L Sonny Callahan, VOR/DME-A, Amdt 7

Gulf Shores, AL, Jack Edwards, ILS OR LOC RWY 27, Amdt 1

Gulf Shores, AL, Jack Edwards, RNAV (GPS) RWY 9, Amdt 3

Gulf Shores, AL, Jack Edwards, RNAV (GPS) RWY 27, Amdt 2

Montgomery, AL, Montgomery Rgnl (Dannelly Field), ILS OR LOC RWY 28, Amdt 10

Montgomery, AL, Montgomery Rgnl (Dannelly Field), NDB RWY 10, Amdt 19

Montgomery, AL, Montgomery Rgnl (Dannelly Field), RADAR-1, Amdt 9

Montgomery, AL, Montgomery Rgnl (Dannelly Field), RNAV (GPS) RWY 3, Amdt 1

Montgomery, AL, Montgomery Rgnl (Dannelly Field), RNAV (GPS) RWY 10, Amdt 1

Montgomery, AL, Montgomery Rgnl (Dannelly Field), RNAV (GPS) RWY 28, Amdt 1

Montgomery, AL, Montgomery Rgnl (Dannelly Field), VOR-A, Amdt 4

Almyra, AR, Almyra Muni, VOR/DME-A, Amdt 6, CANCELLED

Corning, AR, Corning Muni, Takeoff Minimums and Obstacle DP, Orig

Jonesboro, AR, Jonesboro Muni, RNAV (GPS) RWY 5, Orig

Pine Bluff, AR, Grider Field, RNAV (GPS) RWY 18, Amdt 1

Pine Bluff, AR, Grider Field, RNAV (GPS) RWY 36, Amdt 1

Pine Bluff, AR, Grider Field, Takeoff Minimums and Obstacle DP, Orig

Hayward, CA, Hayward Executive, LOC/DME RWY 28L, Amdt 2

Hayward, CA, Hayward Executive, VOR/DME-B, Amdt 2

Napa, CA, Napa County, VOR RWY 6, Amdt 13

Atlanta, GA, Hartsfield-Jackson Atlanta Intl, ILS OR LOC RWY 10, ILS RWY 10 (SA CAT I), ILS RWY 10 (CAT II), ILS RWY 10 (CAT III), Amdt 2

Atlanta, GA, Hartsfield-Jackson Atlanta Intl, ILS OR LOC RWY 28, ILS RWY 28 (SA CAT I), ILS RWY 28 (CAT II), Amdt 2

Atlanta, GA, Hartsfield-Jackson Atlanta Intl, ILS PRM RWY 10, ILS RWY 10 (CAT II), ILS RWY 10 (CAT III), (Simultaneous Close Parallel), Amdt 2

Atlanta, GA, Hartsfield-Jackson Atlanta Intl, ILS PRM RWY 28, ILS RWY 28 (CAT II),

(Simultaneous Close Parallel), Amdt 2

Atlanta, GA, Hartsfield-Jackson Atlanta Intl, RNAV (GPS) Y RWY 10, Amdt 2

Atlanta, GA, Hartsfield-Jackson Atlanta Intl, RNAV (GPS) Y RWY 28, Amdt 2

Atlanta, GA, Hartsfield-Jackson Atlanta Intl, RNAV (RNP) Z RWY 10, Amdt 1

Atlanta, GA, Hartsfield-Jackson Atlanta Intl, RNAV (RNP) Z RWY 28, Amdt 1

Lawrenceville, GA, Gwinnett County-Briscoe Field, NDB RWY 25, Amdt 1

Lawrenceville, GA, Gwinnett County-Briscoe Field, VOR/DME RWY 7, Amdt 2

Macon, GA, Macon Downtown, LOC RWY 10, Amdt 7

Macon, GA, Macon Downtown, RNAV (GPS) RWY 10, Amdt 1

Macon, GA, Macon Downtown, RNAV (GPS) RWY 28, Amdt 1

Bloomington/Normal, IL, Central Il Rgnl Arpt at Bloomington-Normal, ILS OR LOC RWY 29, Amdt 10

Bloomington/Normal, IL, Central Il Rgnl Arpt at Bloomington-Normal, LOC BC RWY 11, Amdt 10

Larned, KS, Larned-Pawnee County, NDB RWY 17, Amdt 4

Larned, KS, Larned-Pawnee County, RNAV (GPS) RWY 17, Orig

Larned, KS, Larned-Pawnee County, RNAV (GPS) RWY 35, Orig

Marysville, KS, Marysville Muni, Takeoff Minimums and Obstacle DP, Amdt 1

Patterson, LA, Harry P Williams Memorial, ILS OR LOC/DME RWY 24, Amdt 2

Patterson, LA, Harry P Williams Memorial, RNAV (GPS) RWY 24, Amdt 1

Vineyard Haven, MA, Marthas Vineyard, RNAV (GPS) RWY 6, Amdt 1

Sanford, ME, Sanford Rgnl, ILS OR LOC RWY 7, Amdt 4

Sanford, ME, Sanford Rgnl, RNAV (GPS) RWY 7, Orig

Sanford, ME, Sanford Rgnl, RNAV (GPS) RWY 25, Orig

Sanford, ME, Sanford Rgnl, Takeoff Minimums and Obstacle DP, Amdt 3

Sanford, ME, Sanford Rgnl, VOR RWY 7, Amdt 4

Sanford, ME, Sanford Rgnl, VOR RWY 25, Amdt 14

Battle Creek, MI, W K Kellogg, Takeoff Minimums and Obstacle DP, Amdt 3

Niles, MI, Jerry Tyler Memorial, VOR OR GPS RWY 4, Amdt 7A CANCELLED

Niles, MI, Jerry Tyler Memorial, VOR OR GPS RWY 22, Amdt 3A CANCELLED

Buffalo, MN, Buffalo Muni, RNAV (GPS) RWY 36, Orig

Buffalo, MN, Buffalo Muni, VOR-A, Orig

Buffalo, MN, Buffalo Muni, VOR OR GPS-B, Amdt 4, CANCELLED

Hallock, MN, Hallock Muni, GPS RWY 31, Orig, CANCELLED

Hallock, MN, Hallock Muni, RNAV (GPS) RWY 31, Orig

Hallock, MN, Hallock Muni, Takeoff Minimums and Obstacle DP, Orig

Little Falls, MN, Little Falls/Morrison County-Lindbergh Fld, GPS RWY 31, Orig-A, CANCELLED

Little Falls, MN, Little Falls/Morrison County-Lindbergh Fld, RNAV (GPS) RWY 31, Orig

Marshall, MN, Southwest Minnesota Rgnl/Marshall/Ryan Fld, GPS RWY 30, Orig-A, CANCELLED

Marshall, MN, Southwest Minnesota Rgnl/Marshall/Ryan Fld, RNAV (GPS) RWY 30, Orig

St Paul, MN, Lake Elmo, NDB RWY 4, Amdt 5

St Paul, MN, Lake Elmo, RNAV (GPS) RWY 32, Amdt 1

Moberly, MO, Omar N Bradley, VOR/DME RNAV OR GPS RWY 13, Amdt 1, CANCELLED

Moberly, MO, Omar N Bradley, VOR/DME RNAV OR GPS RWY 31, Amdt 1, CANCELLED

Clarksdale, MS, Fletcher Field, RNAV (GPS) RWY 18, Amdt 1

Clarksdale, MS, Fletcher Field, RNAV (GPS) RWY 36, Amdt 1

Tunica, MS, Tunica Muni, ILS or LOC/DME RWY 35, Amdt 1

Tunica, MS, Tunica Muni, RNAV (GPS) RWY 17, Amdt 3

Tunica, MS, Tunica Muni, RNAV (GPS) RWY 35, Amdt 2

Tunica, MS, Tunica Muni, VOR/DME-A, Orig

Bismarck, ND, Bismarck Muni, ILS OR LOC RWY 13, Amdt 3

Bismarck, ND, Bismarck Muni, ILS OR LOC RWY 31, Amdt 33

Bismarck, ND, Bismarck Muni, RNAV (GPS) RWY 3, Amdt 2

Bismarck, ND, Bismarck Muni, RNAV (GPS) RWY 13, Orig

Bismarck, ND, Bismarck Muni, RNAV (GPS) RWY 21, Amdt 1

Bismarck, ND, Bismarck Muni, RNAV (GPS) RWY 31, Amdt 1

Bismarck, ND, Bismarck Muni, VOR-A, Amdt 21

Walhalla, ND, Walhalla Muni, Takeoff Minimums and Obstacle DP, Orig

Creighton, NE, Creighton Muni, RNAV (GPS) RWY 13, Orig

Creighton, NE, Creighton Muni, RNAV (GPS) RWY 31, Orig

Creighton, NE, Creighton Muni, Takeoff Minimums and Obstacle DP, Orig

Lincoln, NE, Lincoln, VOR RWY 17, Amdt 7

Lincoln, NE, Lincoln, VOR RWY 18, Amdt 13

Nashua, NH, Boire Field, RNAV (GPS) RWY 32, Orig-A

Poughkeepsie, NY, Dutchess County, ILS OR LOC RWY 6, Amdt 6A

Poughkeepsie, NY, Dutchess County, RNAV (GPS) RWY 6, Orig-A

Poughkeepsie, NY, Dutchess County, VOR/DME RWY 6, Amdt 6A

Watertown, NY, Watertown Intl, ILS OR LOC RWY 7, Amdt 7

Watertown, NY, Watertown Intl, RNAV (GPS) RWY 7, Amdt 2

Watertown, NY, Watertown Intl, VOR RWY 7, Amdt 14

White Plains, NY, Westchester County, ILS OR LOC RWY 16, Amdt 23A

Cadiz, OH, Harrison County, GPS RWY 13, Orig, CANCELLED

Cadiz, OH, Harrison County, GPS RWY 31, Orig, CANCELLED

Cadiz, OH, Harrison County, RNAV (GPS) RWY 13, Orig

Cadiz, OH, Harrison County, RNAV (GPS) RWY 31, Orig

Cadiz, OH, Harrison County, Takeoff Minimums and Obstacle DP, Amdt 3

Cleveland, OH, Cleveland-Hopkins Intl, CONVERGING ILS RWY 24R, Amdt 1

Cleveland, OH, Cleveland-Hopkins Intl, ILS OR LOC RWY 6R, ILS RWY 6R (SA CAT II), Amdt 21

Cleveland, OH, Cleveland-Hopkins Intl, ILS OR LOC RWY 24L, ILS RWY 24L (SA CAT II), Amdt 22

Cleveland, OH, Cleveland-Hopkins Intl, ILS OR LOC/DME RWY 24R, ILS RWY 24R (CAT II), ILS RWY 24R (CAT III), ILS RWY 24R (SA CAT I), Amdt 5

Cleveland, OH, Cleveland-Hopkins Intl, ILS PRM RWY 24R (Simultaneous Close Parallel), Amdt 1

Cleveland, OH, Cleveland-Hopkins Intl, RNAV (GPS) RWY 24L, Amdt 3

Cleveland, OH, Cleveland-Hopkins Intl, RNAV (GPS) RWY 24R, Amdt 3

Oklahoma City, OK, Wiley Post, ILS OR LOC RWY 35R, Orig

Scappoose, OR, Scappoose Industrial Airpark, RNAV (GPS) RWY 15, Orig

Scappoose, OR, Scappoose Industrial Airpark, VOR/DME-A, Amdt 3

St. George, SC, St George, VOR/DME-A, Amdt 2, CANCELLED

Dyersburg, TN, Dyersburg Rgnl, Takeoff Minimums and Obstacle DP, Amdt 1

Gallatin, TN, Summer County Rgnl, Takeoff Minimums and Obstacle DP, Amdt 3

Charlottesville, VA, Charlottesville-Albemarle, ILS OR LOC RWY 3, Amdt 14, CANCELLED

Charlottesville, VA, Charlottesville-Albemarle, ILS OR LOC RWY 3, Orig

Burlington, VT, Burlington Intl, RNAV (GPS) RWY 33, Orig, CANCELLED

Burlington, VT, Burlington Intl, RNAV (GPS) Y RWY 33, Orig

Burlington, VT, Burlington Intl, RNAV (GPS) Z RWY 33, Orig

Amery, WI, Amery Muni, NDB RWY 18, Amdt 6A, CANCELLED

Madison, WI, Dane County Rgnl-Traux Field, RNAV (GPS) RWY 14, Amdt 2

Madison, WI, Dane County Rgnl-Traux Field, RNAV (GPS) RWY 32, Amdt 2

Madison, WI, Dane County Rgnl-Traux Field, Takeoff Minimums and Obstacle DP, Amdt 8

Madison, WI, Dane County Rgnl-Traux Field, VOR RWY 18, Amdt 1

Madison, WI, Dane County Rgnl-Traux Field, VOR RWY 32, Amdt 1

Middleton, WI, Middleton Muni-Morey Field, VOR RWY 10, Amdt 1

Mosinee, WI, Central Wisconsin, ILS OR LOC RWY 8, Amdt 13

Mosinee, WI, Central Wisconsin, ILS OR LOC RWY 35, Amdt 2

Mosinee, WI, Central Wisconsin, RNAV (GPS) RWY 8, Amdt 1

Mosinee, WI, Central Wisconsin, RNAV (GPS) RWY 17, Amdt 1

Mosinee, WI, Central Wisconsin, RNAV (GPS) RWY 26, Amdt 1

Mosinee, WI, Central Wisconsin, RNAV (GPS) RWY 35, Amdt 1

Mosinee, WI, Central Wisconsin, VOR/DME RWY 35, Amdt 9

Waupaca, WI, Waupaca Muni, RNAV (GPS) RWY 10, Amdt 1

Waupaca, WI, Waupaca Muni, RNAV (GPS) RWY 28, Amdt 1

On March 4, 2011 (76 FR 11944) the FAA published an Amendment in Docket No. 30770, Amdt 3414 to Part 97 of the Federal Aviation Regulations under section 97.33. The following entries, published in TL 11-07 effective for 05 MAY 2011, are hereby rescinded:

Hartford, CT, Hartford-Brainard, LDA RWY 2, Amdt 1G

Hartford, CT, Hartford-Brainard, VOR OR GPS-A, Amdt 9C

On March 25, 2011 (76 FR 16690) the FAA published an Amendment in Docket No. 30772, Amdt 3416 to Part 97 of the Federal Aviation Regulations under section 97.33. The following entry, published in TL 11-08 effective for 05 MAY 2011, is hereby rescinded:

Kamuela, HI, Waimea-Kohala, RNAV (GPS) RWY 4, Amdt 1

On March 25, 2011 (76 FR 16691) the FAA published an Amendment in Docket No. 30772, Amdt 3416 to Part 97 of the Federal Aviation Regulations under section 97.33. The following entries, published in TL 11-08 effective for 05 MAY 2011, are hereby rescinded:

Kamuela, HI, Waimea-Kohala, VOR/DME RWY 4, Amdt 1

Niles, MI, Jerry Tyler Memorial, VOR OR GPS RWY 3, Amdt 7A, CANCELLED

Niles, MI, Jerry Tyler Memorial, VOR OR GPS RWY 21, Amdt 3A,CANCELLED

[FR Doc. 2011-8934 Filed 4-14-11; 8:45 am]

BILLING CODE 4910-13-P